DEPARTMENT OF THE INTERIOR

Bureau of Indian Affairs

[134A2100DD.AAK4004601.A0N5A2020]

Renewal of Agency Information Collection for Navajo Partitioned Lands Grazing Permits

AGENCY: Bureau of Indian Affairs, Interior.

ACTION: Notice of submission to OMB.

SUMMARY: In compliance with the Paperwork Reduction Act of 1995, the Bureau of Indian Affairs (BIA) is seeking comments on the renewal of Office of Management and Budget (OMB) approval for the collection of information for Navajo Partitioned Lands Grazing Permits authorized by OMB Control Number 1076-0162. This information collection expires May 31, 2013.

DATES: Interested persons are invited to submit comments on or before June 28, 2013.

ADDRESSES: You may submit comments on the information collection to the Desk Officer for the Department of the Interior at the Office of Management and Budget, by facsimile to (202) 395-5806 or you may send an email to: OIRA_Submission@omb.eop.gov. Please send a copy of your comments to David Edington, Office of Trust Services, 1849 C Street NW., Mail Stop 4637, Washington, DC 20240; facsimile: (202) 219-0006; email: David.Edington@bia.gov.

FOR FURTHER INFORMATION CONTACT: David Edington, (202) 513-0886. You may review the information collection request online at http://www.reginfo.gov. Follow the instructions to review Department of the Interior collections under review by OMB.

SUPPLEMENTARY INFORMATION:

I. Abstract

BIA is seeking renewal of the approval for the information collection conducted under 25 CFR 161, implementing the Navajo-Hopi Indian Relocation Amendments Act of 1980, 94 Stat. 929, and the Federal court decisions of Healing v. Jones, 174 F. Supp. 211 (D. Ariz. 1959) (Healing I), Healing v. Jones, 210 F. Supp. 126 (D. Ariz. 1962), aff'd 363 U.S. 758 (1963) (Healing II), Hopi Tribe v. Watt, 530 F. Supp. 1217 (D. Ariz. 1982), and Hopi Tribe v. Watt, 719 F.2d 314 (9th Cir. 1983).

This information collection allows BIA to receive the information necessary to determine whether an applicant to obtain, modify, or assign a grazing permit on Navajo Partitioned Lands is eligible and complies with all applicable grazing permit requirements. This renewal includes changes to the Navajo Partitioned Lands: Grazing Permit (Form 5-5015), to make the guidance and instructions clear and easy to understand.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0162.

Title: Navajo Partitioned Lands Grazing Permits, 25 CFR 161.

Brief Description of Collection: Submission of information is required for Navajo Nation representatives, members, and authorized tribal organizations to obtain, modify, or assign a grazing permit on Navajo partitioned lands. Some of this information is collected on the following forms: Form 5-5015—Navajo Partitioned Lands: Grazing Permit, Form 5-5022—Navajo Partitioned Lands: Modification of Grazing Permit, and Form 5-5023—Navajo Partitioned Lands: Assignment of Grazing Permit. Changes were made to Form 5-5015—Navajo Partitioned Lands: Grazing Permit, to make the guidance and instructions clear and easy to understand. Response is required to obtain a benefit.

Type of Review: Revision of currently approved collection.

Respondents: Tribes, tribal organizations, and individual Indians.

Number of Respondents: 700.

Estimated Number of Responses: 3,120.

Estimated Time per Response: Varies, from 15 minutes to 1 hour.

Estimated Total Annual Hour Burden: 2,122 hours.

Dated: May 21, 2013.
John Ashley,
Acting Assistant Director for Information Resources.

[FR Doc. 2013-12710 Filed 5-28-13; 8:45 am]

BILLING CODE 4310-4J-P